DEPARTMENT OF JUSTICE

Antitrust Division

Notice Pursuant to the National Cooperative Research and Production Act of 1993—Information Warfare Research Project Consortium

Notice is hereby given that, on April 29, 2021, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, A5G Networks, Inc., Westford, MA; Aarna Networks, Inc., San Jose, CA; Ace Electronics Defense Systems, APG, MD; Adaptive Intelligence [AI] Corporation, Banks, OR; Aegis Power Systems, Inc., Murphy, NC; Anritsu Company, Morgan Hill, CA; Applied Insight, LLC., Tysons, VA; Atlas Technologies, Inc., North Charleston, SC; Ball Aerospace, Broomfield, CO; Bascom Hunter Technologies, Inc., Baton Rouge, LA; BlackHorse Solutions, Inc., Herndon, VA; Buchanan & Edwards, Inc., Arlington, VA; Cobalt Solutions, Inc., Austin, TX; Concept Solutions, LLC., Reston, VA; CRFS, Chantilly, VA; Cypress International, Inc., Alexandria, VA; DESE Research Inc., Huntsville, AL; Dynamic Data Management, Inc., d/b/a Delta Bravo, Rock Hill SC; Endgame Systems, LLC., Arlington, VA; Entech Web Solutions INC., Dunellen, NJ; Excelerated Analytics, LLC., Woodbridge, VA; Excella, Inc., Arlington, VA; Feith Systems and Software, Inc., Fort Washington, PA; FUTURA Cyber, Inc., Dedham, MA; Giesler LLC., Alpharetta, GA; Global Planning Initiatives, LLC., Virginia Beach, VA; INDUS Technology, Inc., San Diego, CA; Kaizen Approach Inc., Hanover, MD; Kapsuun Group, Lorton, VA; MagiQ Technologies, Inc., Sommerville, MA; NETSCOUT Systems, Inc., Wesftford, MA; Nexagen Networks, Inc., Morganville, NJ; Nutanix, Inc., San Jose, CA; Omnispace LLC., Tysons, VA; Opto-Knowledge Systems, Inc., Torrance, CA; Phillips Corporation, Hanover, MD; PTC, Boston, MA; Shield AI Inc., San Diego, CA; Smartsheet Inc., Bellevue, WA; Sol Firm LLC., Mount Pleasant, SC; Solid State Scientific Corporation, Hollis, NH; Swim.ai, Inc., Campbell, CA; TapHere! Technology, LLC., Manassas, VA; ThayerMahan, Inc., Groton, CT; TLG Worldwide, LLC., Manassas, VA; Vection Group Inc., West Hollywood, CA; Vectrus Mission Solutions Corporation Alexandria, VA; Ventus Executive Solutions, LLC., Fairfax, VA; WarCollar Industries, LLC., Vienna, VA; XCOM-Labs, Inc., San Diego, CA; and Zin Solutions, (DBA Axiom)Inc., Tulsa, OK have been added as parties to this venture.

Also, AIRBUS U.S. Space & Defense, Inc., Herndon, VA; Applied Technical Systems, Inc., Silverdale, WA; Avineon, Inc., McLean, VA; Box Inc., Redwood City, CA; Interclypse, Inc., Annapolis Junction, MD; Kratos RT Logic, Inc., Colorado Springs, CO; Lone Star Analysis, Addison, TX; Oteote Inc., Encinitas, CA; RTSync Corp., Chandler, AZ; Smartronix, LLC., Hollywood, MD; Southern Aerospace Company LLC., Madison, AL; Universal Consulting Services, Inc., Fairfax, VA; and Wireless Research Center of North Carolina, Wake Forest, NC have withdrawn from this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on February 1, 2021. A notice was published in the Federal Register pursuant to Section 6(b) of the Act on February 12, 2021 (86 FR 9373).

Suzanne Morris,
Chief, Premerger and Division Statistics, Antitrust Division.

[FR Doc. 2021-10920 Filed 5-21-21; 8:45 am]

BILLING CODE P